DEPARTMENT OF ENERGY

Western Area Power Administration

Notice of Wetlands Involvement for the Captain Jack-Olinda 500-kV Transmission Line Access Road Creek Crossing

AGENCY: Western Area Power Administration, DOE.

ACTION: Notice of wetlands involvement.

SUMMARY: The Western Area Power Administration (Western) proposes to install culverts at the access road crossing of a tributary to Miners Creek about 2 miles southwest of Big Bend, California, and about 2,500 feet east of the confluence of Miners Creek and the Pit River. An existing bridge at the creek crossing has collapsed, denying access to a dead-end transmission structure on the Captain Jack-Olinda 500-kilovolt (kV) transmission line. If access to the structure is not restored, Western's maintenance crews would need to bulldoze across the creek to reach the structure in the event of structure damage or other emergency. Per a review of the flood hazard maps for Shasta County, California, Western determined that creek crossing does not involve a 100-year floodplain. However, a field review indicates that wetlands associated with the creek and its floodplain could be affected by the crossing. In accordance with the U.S. Department of Energy's Floodplain/Wetland Review Requirements (10 CFR part 1022), Western will prepare a wetland assessment as part of an environmental assessment for the creek crossing and will perform the proposed actions in a manner so as to avoid or minimize potential harm to, or within, the affected wetland.

DATES: Comments on the proposed floodplain action are due to the address below no later than September 18, 2000.

ADDRESSES: Comments should be addressed to Ms. Nancy Werdel, Environment Manager, Sierra Nevada Customer Service Region, Western Area Power Administration, 114 Parkshore Drive, Folsom, CA, 95630-4710, fax (916) 985-1934, e-mail werdel@wapa.gov.

FOR FURTHER INFORMATION CONTACT: Mr. Dave Swanson, Environmental Specialist, Western Area Power Administration, P.O. Box 281213, Lakewood, CO, 80228-8213, telephone (720) 962-7261, fax (720) 962-7263, e-mail swanson@wapa.gov.

SUPPLEMENTARY INFORMATION: The proposal to install culverts at the creek crossing of the tributary to Miners Creek would involve construction activities that could affect the wetlands of the tributary. Construction activities may include the placement of culverts within the creek bed, grading at and near the banks of the creek, and filling road bed material over and around the culverts. The environmental assessment will examine the installation of culverts and alternative crossing methods. The creek crossing is located in Shasta County, California, in T. 36 N., R. 1 W., Section 2. Maps and further information are available from Western from the contacts above.

Dated: August 22, 2000.
Michael S. Hacskaylo,
Administrator.

[FR Doc. 00-22511 Filed 8-31-00; 8:45 am]

BILLING CODE 6450-01-P